DEPARTMENT OF JUSTICE

Drug Enforcement Administration

Importer of Controlled Substances; Notice of Correction

As set forth in the Federal Register on February 5, 2004 (69 FR 5583), Sigma Aldrich Company, Subsidiary of Sigma Aldrich Corporation, 3500 Dekalb Street, St. Louis, Missouri 63118, was granted a registration as an importer of certain Schedule I and II controlled substances.

The drug code for Opium, powdered, a basic class of Schedule II controlled substance, was erroneously listed as 9649 rather than 9639. The notice should have stated: Opium, powdered (9639).

Dated: March 8, 2004.
William J. Walker,
Deputy Assistant Administrator, Office of Diversion Control, Drug Enforcement Administration.

[FR Doc. 04-5770 Filed 3-12-04; 8:45 am]

BILLING CODE 4410-09-M